Title 3—

The President

Proclamation 7813 of September 14, 2004

National Prostate Cancer Awareness Month, 2004

By the President of the United States of America

A Proclamation

We have made dramatic progress in the battle against prostate cancer. However, prostate cancer is still the most commonly diagnosed form of cancer and the second-leading cause of cancer-related death among American men. During National Prostate Cancer Awareness Month, we again demonstrate our Nation's commitment to the prevention, research, and treatment of this disease.

Studies have shown that men with certain risk factors are more likely to develop prostate cancer. Age is the most significant factor—most men with prostate cancer are older than 65. Family history, a diet high in animal fats or meat, and certain other factors may also increase the likelihood of developing this disease. As we work to better understand the factors contributing to prostate cancer, I urge all men to talk to their doctors about the best course of action to reduce their own risk.

Although we cannot yet prevent prostate cancer, we know that early detection and treatment often make the difference between life and death. Screenings available include blood tests and physical examinations that can help detect the cancer at earlier, less dangerous stages. Researchers and scientists are also working to find more effective treatments that will give patients and their families greater hope. My Administration is committed to funding vital research and finding a cure for prostate cancer. Currently, the National Cancer Institute is sponsoring the largest prostate cancer prevention clinical trial ever conducted. The National Institutes of Health invested $379 million in prostate cancer research in 2003, and plans to spend almost $400 million this year and an estimated $417 million in 2005. In addition, the Centers for Disease Control and Prevention, the Department of Defense, and the Department of Veterans Affairs are playing essential roles in efforts to translate research into effective treatments.

To help save lives and raise awareness of prostate cancer, I urge all Americans to talk with family and friends about the importance of screening and early detection. By educating ourselves and others about this disease, we can improve our ability to prevent, detect, treat, and ultimately cure prostate cancer.

NOW, THEREFORE, I, GEORGE W. BUSH, President of the United States of America, by virtue of the authority vested in me by the Constitution and laws of the United States, do hereby proclaim September 2004 as National Prostate Cancer Awareness Month. I call upon government officials, businesses, communities, health care professionals, educators, volunteers, and all people of the United States to reaffirm our Nation's strong and continuing commitment to control and cure prostate cancer.

IN WITNESS WHEREOF, I have hereunto set my hand this fourteenth day of September, in the year of our Lord two thousand four, and of the Independence of the United States of America the two hundred and twenty-ninth.

B

[FR Doc. 04-21122

Filed 9-16-04; 8:45 am]

Billing code 3195-01-P